DEPARTMENT OF ENERGY

Federal Energy Regulatory Commission

[Project No. 1417-277]

Central Nebraska Public Power & Irrigation District; Notice of Intent To Prepare an Environmental Assessment

On December 31, 2020, as supplemented on July 22, 2021, Central Nebraska Public Power and Irrigation District (Central) filed a non-capacity amendment of license application requesting Commission approval to modify the project boundary for the Kingsley Dam Project. Central's request is based on its analysis of the existing lands and shorelines around project reservoirs to determine their need for project operation and other project purposes, including public access for recreation. The proposed boundary modification would add approximately 3,400 acres and remove approximately 900 acres, resulting in a net increase of 2,500 acres of additional lands to be included within the project boundary. The project is located on the North Platte and Platte Rivers in Garden, Keith, Lincoln, Dawson, and Gosper counties, in south-central Nebraska.

The Commission issued a public notice of the amendment application on February 9, 2021, with protests, comments, and motions to intervene due to be filed by March 11, 2021. Several individuals filed comment letters and motions to intervene in opposition to Central's proposal. In general, these individuals express concerns about private property rights, increased restrictions on private uses, shoreline erosion and control, and/or Central's proposed flood surcharge determination.

This notice identifies Commission staff's intention to prepare an environmental assessment (EA) for the project. The planned schedule for the completion of the EA is July 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued July 2024. Agencies wishing to cooperate, or further discuss the benefits, responsibilities, and obligations of the cooperating agency role, should contact staff listed at the bottom of this notice by February 15, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jon Cofrancesco at 202.502.8951 or jon.cofrancesco@ferc.gov.

Dated: January 25, 2024.
Debbie-Anne A. Reese,
Acting Secretary.

[FR Doc. 2024-01899 Filed 1-30-24; 8:45 am]

BILLING CODE 6717-01-P